DEPARTMENT OF TRANSPORTATION

Federal Motor Carrier Safety Administration

[Docket No. FMCSA-2001-9561]

Qualification of Drivers; Exemption Applications; Vision

AGENCY: Federal Motor Carrier Safety Administration (FMCSA), DOT.

ACTION: Notice of applications for exemption from the vision standard; request for comments.

SUMMARY: This notice announces the FMCSA's receipt of applications from 22 individuals for an exemption from the vision requirements in the Federal Motor Carrier Safety Regulations (FMCSRs). If granted, the exemptions will enable these individuals to qualify as drivers of commercial motor vehicles (CMVs) in interstate commerce without meeting the vision standard prescribed in 49 CFR 391.41(b)(10).

DATES: Comments must be received on or before July 6, 2001.

ADDRESSES: Mail or hand deliver comments to the U.S. Department of Transportation, Dockets Management Facility, Room PL-401, 400 Seventh Street, SW., Washington, DC 20590, or submit electronically at http://dmses.dot.gov/submit. All comments received will be available for examination and copying at the above address from 9 a.m. to 5 p.m., e.t., Monday through Friday, except Federal holidays. Those desiring notification of receipt of comments must include a self-addressed, stamped postcard or you may print the acknowledgment page that appears after submitting comments electronically.

FOR FURTHER INFORMATION CONTACT: For information about the vision exemptions in this notice, Ms. Sandra Zywokarte, Office of Bus and Truck Standards and Operations, (202) 366-2987; for information about legal issues related to this notice, Ms. Elaine Walls, Office of the Chief Counsel, (202) 366-1394, FMCSA, Department of Transportation, 400 Seventh Street, SW., Washington, DC 20590. Office hours are from 7:45 a.m. to 4:15 p.m., e.t., Monday through Friday, except Federal holidays.

SUPPLEMENTARY INFORMATION:

Electronic Access and Filing

You may see all the comments online through the Document Management System (DMS) at: http://dmses.dot.gov/submit.

Background

Twenty-two individuals have requested an exemption from the vision requirement in 49 CFR 391.41(b)(10), which applies to drivers of CMVs in interstate commerce. Under 49 U.S.C. 31315 and 31136(e), the FMCSA may grant an exemption for a renewable 2-year period if it finds “such exemption would likely achieve a level of safety that is equivalent to, or greater than, the level that would be achieved absent such exemption.” Accordingly, the agency will evaluate the qualifications of each applicant to determine whether granting the exemptions will achieve the required level of safety.

Qualifications of Applicants

1. Roger D. Anderson

Mr. Anderson, 62, has amblyopia in his right eye. He has visual acuities of finger counting with his right eye, and 20/20 with his left eye. As the result of an examination in 2000, his optometrist concluded, “Mr. Anderson has been driving like this all of his life and I believe he has sufficient vision to perform the driving tasks required to operate a commercial vehicle.” Mr. Anderson reported that he has 45 years and 450,000 miles of experience operating straight trucks; 10 years and 200,000 miles of experience operating tractor-trailer combinations; and 2 years and 18,000 miles of experience operating buses. He holds a Class A CDL from Kansas, and there are no accidents and one conviction for a moving violation—Speeding—in a CMV on his driving record for the last 3 years. He exceeded the speed limit by 13 mph.

2. Joey E. Buice

Mr. Buice, age 30, has a prosthetic right eye due to an injury in 1981. He has uncorrected visual acuity of 20/10 in the left eye. Following an examination in 2001, his ophthalmologist stated, “In my professional opinion his vision is stable and he is capable of driving a commercial vehicle, such as a tractor-trailer without difficulty or risk.” Mr. Buice reported that he has driven straight trucks for 6 years and has accumulated 60,000 miles. He holds a Class B CDL from Georgia, and his driving record for the last 3 years shows no accidents or convictions for moving violations in a CMV.

3. Ronald D. Danberry

Mr. Danberry, 43, has exotropia and amblyopia of the right eye. His corrected and uncorrected visual acuity is 20/60 in the right eye and 20/20 in the left eye. An optometrist who examined him in 2001 stated, “I certify, in my medical opinion, that Ronald has more than sufficient vision to operate a commercial vehicle safely.” According to Mr. Danberry's application, he has 3½ years of experience driving straight trucks, totaling 52,000 miles; and 3½ years of experience driving tractor-trailers, totaling 122,000 miles. He holds a Minnesota Class A CDL and has had no accidents or moving violations in a CMV for the past 3 years.

4. Paul W. Dawson

Mr. Dawson, 51, has amblyopia in his left eye, which causes 20/200 best-corrected visual acuity in that eye. In his right eye, his best-corrected visual acuity is 20/20. His optometrist examined him in 2001 and stated, “Our opinion is that Paul has sufficient vision to perform the driving tasks required to operate a commercial vehicle. Indeed he has safely done so for over 20 years!” Mr. Dawson submitted that he has driven 1.9 million miles in tractor-trailer combination vehicles over 20 years. He holds a Class A CDL from Colorado. His driving record shows no accidents and one conviction for a moving violation—Stopping on Highway—in a CMV for the last 3 years.

5. Lois E. DeSouza

Ms. DeSouza, 63, has had decreased vision in her right eye since December, 1995, after attempted repair of a retinal detachment with development of scar tissue. Her visual acuities are light perception in the right eye and 20/30+, with correction, in the left eye. Her ophthalmologist examined her in 2000 and stated, “Ms. DeSouza has been able to perform her tasks in terms of driving this commercial vehicle since her injury to the right eye and I feel that she will have sufficient vision to continue to operate this vehicle safely.” Ms. DeSouza reported that she has driven tractor-trailer combinations for 20 years, accumulating 1.2 million miles. She holds a Class A CDL from Tennessee, and she has no accidents or convictions for moving violations in a CMV on her driving record for the past three years.

6. Richard L. Gandee

Mr. Gandee, 44, has had central serous retinopathy in his left eye since April 1997. His visual acuity is 20/20 in the right eye and 20/50 in the left eye. Following an examination in 2001, his ophthalmologist certified, “In my medical opinion, I feel he has sufficient vision to perform the driving tasks required to operate a commercial vehicle.” Mr. Gandee reported he has driven tractor-trailer combinations for 15 years, accumulating 975,000 miles, and straight trucks for 5 years, accumulating 650,000 miles. He holds a Class A CDL from Ohio. His driving record for the last 3 years shows he has had one accident and no convictions for moving violations in a CMV. According to the police report for the accident, the driver of another vehicle coming toward him crossed the center line and struck the vehicle Mr. Gandee was driving. The other driver was charged with “Failure to Control.”

7. Steven A. Garrity

Mr. Garrity, 38, has a visual acuity in the right eye of 20/20 and in the left eye hand motion due to a retinal detachment in 1978. Mr. Garrity was examined in 2000 and his optometrist stated, “It is my opinion that Steve has sufficient vision to operate a commercial vehicle due to the fact that he is 20/20 in the right eye and his peripheral vision is very good.” Mr. Garrity submitted that he has driven straight trucks for 20 years, accumulating 300,000 miles, and tractor-trailer combinations for 18 years, accumulating 270,000 miles. He holds a Massachusetts Class AM CDL, and his driving record for the last 3 years contains no accidents or convictions for moving violations in a CMV.

8. Chester L. Gray

Mr. Gray, 28, has amblyopia in his left eye. His best-corrected visual acuity is 20/15 in the right eye and 20/50 in the left eye. As a result of a 2001 examination, his optometrist affirmed, “In my opinion, his vision is good enough to permit him to safely operate a commercial motor vehicle.” Mr. Gray reported that he has driven tractor-trailer combination vehicles and straight trucks for 9 years, accumulating 360,000 miles in the former and 45,000 miles in the latter. He holds a Class A CDL from Texas, and his driving record for the last 3 years shows no accidents or convictions for moving violations in a CMV.

9. Waylon E. Hall

Mr. Hall, 33, has amblyopia in his left eye. He sees 20/300 not correctable with his left eye and 20/20 corrected with his right eye. An optometrist examined him in 2001 and stated, “I feel Mr. Hall would be capable of performing all driving tasks associated with the operation of a commercial vehicle.” Mr. Hall reported he has driven tractor-trailer combinations 3 years, accumulating 405,000 miles. He holds a Louisiana Class E regular license currently, but held a Class A CDL for the 3-year period prior to his date of application. He has had no CMV accidents or convictions for moving violations for the past 3 years, according to his driving record.

10. Jeffery M. Kimsey

Mr. Kimsey, 34, has a loss of central vision in his right eye due to an injury in 1986. His visual acuity in the right eye is finger counting at 3 feet, and in the left eye, 20/20, best-corrected. An optometrist examined him in 2001 and stated, “It is my opinion that this patient has sufficient vision to operate a commercial vehicle.” According to Mr. Kimsey's application, he has driven 192,000 miles in tractor-trailer combination vehicles over 16 years. He holds a Class A CDL from Georgia. In the last 3 years he has had no accidents and one conviction for a moving violation—Speeding—in a CMV on his driving record. He exceeded the speed limit by 13 mph.

11. Gerald L. Phelps

Mr. Phelps, 53, is blind in his right eye due to an injury at 4 years of of age. His visual acuity is 20/20-in the left eye. His optometrist examined him in 2001 and certified, “In my medical opinion, Gerald is a safe driver and has sufficient vision to perform tasks required of a truck driver in a commercial environment.” In his application, Mr. Phelps reported that he has driven tractor-trailer combinations for 35 years, accumulating 1.4 million miles. He holds a Pennsylvania Class AM CDL, and there are no accidents or convictions for moving violations in a CMV on his driving record for the last 3 years.

12. Doyle E. Ramsey

Mr. Ramsey, 58, has amblyopia in his left eye. His corrected visual acuity in the right eye is 20/20, and in the left eye, 20/60⁻¹. An optometrist examined him in 2001 and affirmed, “In my medical/optical opinion I feel Mr. Ramsey has sufficient vision to perform the driving tasks required to operate a commercial vehicle.” Mr. Ramsey stated he has driven straight trucks for 12 years, accumulating 624,000 miles. He holds an Indiana chauffeur's license, and his official driving record for the last 3 years shows no accidents and no convictions for moving violations in a CMV.

13. Michael J. Risch

Mr. Risch, 49, has an amblyopic right eye, which has only counting finger vision. His left eye has vision of 20/20-2. Following an examination in 2000, his opthalmologist certified, “After examination, it is my medical opinion that Mr. Risch has sufficient vision to perform the driving tasks required to operate a commercial vehicle.” According to his application, Mr. Risch has operated tractor-trailer combinations for 25 years and 2.7 million miles. He holds a Class ABCD CDL from Wisconsin, and his driving record for the last 3 years shows no accidents or convictions for moving violations in a CMV.

14. Tim M. Seavy

Mr. Seavy, 32, has amblyopia in his right eye. His best-corrected visual acuity is 20/200 in the right eye and 20/20 in the left eye. His ophthalmologist examined him in 2000 and affirmed, “Visual deficiency is stable and visual fields are over 120 degrees. I feel that the vision is sufficient for driving tasks required for operating a commercial vehicle.” Mr. Seavy stated he has driven tractor-trailer combination vehicles for 4 years, accumulating 561,000 miles, and straight trucks for 7 years, accumulating 728,000 miles. He holds an Indiana Class A CDL, and he has no accidents or convictions for moving violations on his driving record for the last 3 years.

15. Kim L. Seibel

Mr. Seibel, 49, has amblyopia in his left eye. He has best-corrected visual acuity of 20/20 in the right eye and 20/100+ in the left eye. As a result of an examination in 2001, his optometrist stated, “In my opinion Kim has sufficient vision to perform the driving task required to operate a commercial vehicle.” According to Mr. Seibel's application, he has driven tractor-trailer combinations for 25 years, accumulating 2.5 million miles. He holds a Class A CDL from South Dakota, and his driving record shows no accidents or convictions for moving violations in a CMV during the last 3 years.

16. Edd J. Stabler

Mr. Stabler, 53, is aphakic in the left eye due to an eye injury in 1961. His right eye corrects to 20/20 and the left eye perceives hand motion only. His optometrist examined him in 2000 and certified, “Mr. Stabler has sufficient vision to perform driving tasks required to operate a commercial vehicle.” Mr. Stabler reported he has driven tractor-trailer combinations for 13 years, accumulating 1.2 million miles, and straight trucks for 9 years, accumulating 702,000 miles. He holds an Alabama Class AM CDL, and in the last 3 years, he has had no accidents or convictions for moving violations in a CMV.

17. Randy D. Stanley

Mr. Stanley, 43, has amblyopia in his left eye. His vision in the right eye is 20/20 and in the left eye 20/80, best-corrected. Following a 2001 examination, his optometrist stated, “It is my medical opinion that Mr. Stanley has sufficient vision to perform the driving tasks required to operate a commercial vehicle.” In his application, Mr. Stanley reported that he has driven tractor-trailer combinations and straight trucks for 21 years, accumulating 420,000 miles in the former and 10,000 miles in the latter. He holds a North Carolina Class A CDL, and has had no accidents or convictions for moving violations in a CMV for the past 3 years, according to his driving record.

18. Lee T. Taylor

Mr. Taylor, 42, has worn a prosthetic right eye for 35 years, due to an injury. Visual acuity in his left eye is 20/20 with correction. His ophthalmologist examined him in 2000 and stated, “My medical opinion based on ophthalmologic findings is that Mr. Taylor should be permitted to operate commercial motor vehicles.” Mr. Taylor submitted that he has driven tractor-trailer combinations for 7 years, traveling 766,000 miles, and straight trucks for 6 years, traveling 262,000 miles. He holds a Class A license from Florida, and his driving record for the last 3 years shows no accidents and one conviction for a moving violation—Unlawful Speed—in a CMV. He exceeded the speed limit by 9 mph.

19. James Melvin Tayman, Sr.

Mr. Tayman, 63, sustained an injury to the left eye approximately 40 years ago and has been blind in that eye ever since. His right eye has visual acuity of 20/20, with correction. Following an examination in 2001, his ophthalmologist stated, “In addition to his excellent visual function in the right eye, Mr. Tayman has a record of driving 400 miles per day professionally, since 1963, with no accidents. He is fully able to operate a commercial vehicle, and is likely a safer driver than most who pass through your office.” Mr. Tayman submitted that he has driven tractor-trailer combination vehicles for 23 years accumulating 1.8 million miles, and straight trucks for 19 years accumulating 1.5 million miles. He holds a Class A CDL from Maryland, and his driving record shows no accidents or convictions for moving violations in a CMV during the last 3 years.

20. Wesley E. Turner

Mr. Turner, 41, has an aphakic, amblyopic left eye due to trauma at age 6. His vision in the right eye is 20/20 without correction, and in the left eye 20/800 not correctable. He was examined in 2001 and his ophthalmologist stated, “Since his vision is stable, visual field is normal and Mr. Turner has driven professionally in the past, I see no reason he could not operate a commercial vehicle now.” In his application, Mr. Turner reported that he has driven tractor-trailer combinations for 18 years, accumulating 1.3 million miles, and straight trucks for 2 years, accumulating 50,000 miles. He holds a Texas Class A CDL, and has no accidents or convictions for moving violations in a CMV on his driving record for the past 3 years.

21. Edward W. Yeates, Jr.

Mr. Yeates, 33, has amblyopia in the right eye. His best vision with correction is 20/80 in the right eye and 20/20 in the left eye. Following an examination in 2000, his ophthalmologist certified, “Since this condition has been present for the patient's entire life he should have no difficulty judging distance and his peripheral vision is entirely normal. I feel that he can safely operate a commercial vehicle.” Mr. Yeates submitted that he has driven tractor-trailer combinations and straight trucks for 9 years, accumulating 720,000 miles in the former and 288,000 miles in the latter. He holds a Mississippi Class A CDL, and his driving record for the last 3 years shows no accidents and no convictions for moving violations in a CMV.

22. John C. Young

Mr. Young, 44, has amblyopia in the right eye. His visual acuity is 20/60 in the right eye and 20/15 in the left eye. Following a 2000 examination, his ophthalmologist noted, “In my opinion, Mr. Young has sufficient vision to perform the driving tasks required to operate a commercial vehicle.” According to Mr. Young, he has operated tractor-trailer combinations for 20 years, accumulating 1.5 million miles. A holder of a Class AM CDL from Virginia, he has had no accidents or citations for moving violations in a CMV for the last 3 years.

Request for Comments

In accordance with 49 U.S.C. 31315 and 31136(e), the FMCSA is requesting public comment from all interested persons on the exemption petitions and the matters discussed in this notice. All comments received before the close of business on the closing date indicated above will be considered and will be available for examination in the docket room at the above address. Comments received after the closing date will be filed in the docket and will be considered to the extent practicable, but the FMCSA may publish in the Federal Register a notice of final determination at any time after the close of the comment period. In addition to late comments, the FMCSA will also continue to file in the docket relevant information which becomes available after the closing date. Interested persons should continue to examine the docket for new material.

Authority: 49 U.S.C. 322, 31136 and 31315; and 49 CFR 1.73.

Issued on: May 31, 2001.
Stephen E. Barber,
Acting Deputy Administrator.

[FR Doc. 01-14239 Filed 6-5-01; 8:45 am]

BILLING CODE 4910-EX-P